DEPARTMENT OF INTERIOR

National Park Service

Saint-Gaudens National Historic Site, Cornish, NH: Environmental Assessment—Purple Loosestrife Management; Notice of Availability and Public Comment Period

In accordance with the National Environmental Policy Act (Pub. L. 91-190) the National Park Service (NPS) announces that the document “Environmental Assessment, Purple Loosestrife Management, Saint-Gaudens National Historic Site” will be available for public review and comment for thirty days from the date of its publication in the Federal Register.

The document presents four alternatives for managing the non-native, invasive plant, purple loosestrife (Lythrum salicaria) at the site. Ultimately, an alternative will be selected that will guide the park in the management of this invasive species.

During the thirty-day comment period, interested persons may review the document and provide written comments to the Superintendent, Saint-Gaudens National Historic Site, RR 3, Box 73, Cornish, NH 03745.

The NPS will distribute a summary of the Environmental Assessment to the site's mailing list, interested individuals and institutions. The NPS will then distribute a complete version of the document to federal, state, regional, and local agencies. Both versions will be available at local libraries and at the Saint-Gaudens National Historic Site.

Queries and requests for copies of the complete Environmental Assessment or of the summary document should be directed to the Saint-Gaudens National Historic Site at (603) 675-2175.

Dated: April 30, 2001.
John H. Dryfhout,
Superintendent, Saint-Gaudens NHS.

[FR Doc. 01-12014 Filed 5-11-01; 8:45 am]

BILLING CODE 4310-70-P